DEPARTMENT OF THE INTERIOR

Fish and Wildlife Service

Notice of Availability of a Draft Environmental Assessment and Receipt of an Application for an Incidental Take Permit for the Strawberry Tierra, Inc., Property, Douglas County, CO

AGENCY: Fish and Wildlife Service, Interior.

ACTION: Notice of availability and receipt of application.

SUMMARY: This notice advises the public that Strawberry Tierra, Inc. (Applicant) has applied to the Fish and Wildlife Service (Service) for an incidental take permit pursuant to section 10(a)(1)(B) of the Endangered Species Act of 1973 as amended. The Service proposes to issue a 3-year permit to the Applicant that would authorize the incidental take of the Preble's meadow jumping mouse (Preble's) (Zapus hudsonius preblei), federally listed as threatened, and loss and modification of its habitat associated with the construction of retail development in Parker, Douglas County, Colorado. Construction of the project will result in the permanent loss of up to 0.10 acres of willow copse that provides potential foraging and hibernation habitat for the mouse, and temporary loss of 5.37 acres of ruderal grassland that provides potential foraging and hibernation habitat for the mouse. The permit application includes a combined Environmental Assessment/Habitat Conservation Plan (EA/HCP), which is available for public review and comment. The HCP fully describes the proposed project and the measures the Applicant would undertake to minimize and mitigate project impacts to the Preble's.

The Service requests comments on the EA/HCP for the proposed issuance of the incidental take permit. We provide this notice pursuant to section 10(a) of the Endangered Species Act and National Environmental Policy Act regulations (40 CFR 1506.6). All comments on the EA and permit application will become part of the administrative record and will be available to the public.

DATES: Written comments on the permit application and EA/HCP should be received on or before May 20, 2002.

ADDRESSES: Persons wishing to review the permit application or the EA/HCP, may obtain a copy by writing to LeRoy Carlson, Field Supervisor, Fish and Wildlife Service, Colorado Field Office, 755 Parfet Street, Suite 361, Lakewood, Colorado 80215, or by calling (303) 275-2370 to request a copy. Documents also will be available for inspection, by appointment, during normal business hours at the address above. Written data or comments should be submitted to the above address. Comments also may be sent by facsimile to (303) 275-2371. Please reference permit number TE-053241 in any comments submitted.

FOR FURTHER INFORMATION CONTACT: Ms. Kathleen Linder, Fish and Wildlife Biologist, Colorado Field Office, telephone (303) 275-2370.

SUPPLEMENTARY INFORMATION:

Background

Section 9 of the Endangered Species Act and Federal regulations prohibit the “take” of a species listed as endangered or threatened (take is defined under the Endangered Species Act as to harass, harm, pursue, hunt, shoot, wound, kill, trap, capture, or collect, or to attempt to engage in any such conduct). However, the Service may issue permits to authorize “incidental take” (defined by the Endangered Species Act as take that is incidental to, and not the purpose of, the carrying out of an otherwise lawful activity) of listed species under limited circumstances. Regulations governing permits for threatened species are promulgated in 50 CFR 17.32. Regulations governing permits for endangered species are promulgated in 50 CFR 17.22.

The proposed action is the issuance of a permit under section 10(a)(1)(B) of the Endangered Species Act to allow the incidental take of Preble's during the construction of a proposed retail development. The proposed project will permanently affect 0.10 acres and temporarily affect 5.37 acres of potential habitat for Preble's. An HCP has been developed as part of the preferred alternative. The proposed HCP will allow for the incidental take of the Preble's by permitting construction of a retail development in an area that may be periodically used as foraging or hibernation habitat. Proposed construction will result in about 0.10 acres of permanent habitat loss and another 5.37 acres of temporary effects to the habitat associated with this localized disturbance.

Alternatives considered in addition to the proposed action were—building at an alternate location, and no action. The draft EA analyzes the onsite, offsite, and cumulative impacts of the proposed project and all associated development and construction activities and mitigation activities on the Preble's, other threatened or endangered species, vegetation, wildlife, wetlands, geology/soils, land use, water resources, air and water quality, or cultural resources. None of the proposed impacts occur within the riparian corridor. The majority of impacts are in upland areas outside the 100-year floodplain. The Applicant, using the Service's definition of Preble's habitat, has determined that the proposed project would impact approximately 5.47 acres of potential Preble's habitat. The mitigation for the identified impacts will provide a net increase of 2.06 acres to the Preble's and other wildlife by improving potential mouse habitat through revegetation with native grasses, forbs, shrubs, and trees.

The Preble's is the only known Federally listed species that occurs on site and has the potential to be directly affected by the proposed project. The Applicant has agreed to implement the following measures to minimize and mitigate impacts that may result from incidental take of Preble's; in order to compensate for the loss of Preble's habitat, a total of 7.53 acres adjacent to the 100-year floodplain of Cherry Creek will be preserved and enhanced at a ratio of greater than 1.5:1 through seeding and planting native species.

Dated: March 4, 2002.
John Blankenship,
Deputy Regional Director.

[FR Doc. 02-6809 Filed 3-20-02; 8:45 am]

BILLING CODE 4310-55-P